DEPARTMENT OF COMMERCE

National Oceanic and Atmospheric Administration

50 CFR Part 679

[RTID 0648-XA980]

Fisheries of the Exclusive Economic Zone Off Alaska; Standardized Bycatch Reporting Methodology Amendments to the Fishery Management Plans for the Bering Sea/Aleutian Islands King and Tanner Crabs, Scallops, and Salmon

AGENCY: National Marine Fisheries Service (NMFS), National Oceanic and Atmospheric Administration (NOAA), Commerce.

ACTION: Announcement of availability of fishery management plan amendments; request for comments.

SUMMARY: The North Pacific Fishery Management Council (Council) submitted Amendment 51 to the Fishery Management Plan (FMP) for Bering Sea/Aleutian Islands (BSAI) King and Tanner Crabs (Crab FMP), Amendment 17 to the FMP for the Scallop Fishery Off Alaska (Scallop FMP), and Amendment 15 to the FMP for the Salmon Fisheries in the Exclusive Economic Zone (EEZ) Off Alaska (Salmon FMP) (collectively Amendments). If approved, these Amendments would add to or modify language in the Crab, Scallop, and Salmon FMPs to more transparently reflect and align the FMPs with the way bycatch is currently reported in the fisheries managed by the Council. These Amendments are intended to promote the goals and objectives of the Magnuson-Stevens Fishery Conservation and Management Act (Magnuson-Stevens Act); the Crab, Scallop, and Salmon FMPs; and other applicable laws.

DATES: Comments on the Amendments must be received no later than August 13, 2021.

ADDRESSES: You may submit comments on this document, identified by NOAA-NMFS-2021-0036, by any of the following methods:

• Electronic Submission: Submit all electronic public comments via the Federal e-Rulemaking Portal. Go to https://www.regulations.gov and enter NOAA-NMFS-2021-0036 in the Search box. Click on the “Comment” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of proposed Amendments, the draft Categorical Exclusion, and the draft Analysis (referred to as the “Analysis”) prepared for this action may be obtained from www.regulations.gov or from the NMFS Alaska Region website at https://www.fisheries.noaa.gov/region/alaska.

FOR FURTHER INFORMATION CONTACT: Megan Mackey, 907-586-7228.

SUPPLEMENTARY INFORMATION: The Magnuson-Stevens Act requires that each regional fishery management council submit any FMP amendment it prepares to NMFS for review and approval, disapproval, or partial approval by the Secretary of Commerce (Secretary). The Magnuson-Stevens Act also requires that NMFS, upon receiving an FMP amendment, immediately publish a notice in the Federal Register announcing that the amendment is available for public review and comment. The Council has submitted the Amendments to the Secretary for review. This notice announces that the proposed Amendments are available for public review and comment.

NMFS manages the crab, scallop, and salmon fisheries in Alaska's exclusive economic zone under the Crab, Scallop, and Salmon FMPs. The Council prepared these FMPs under the authority of the Magnuson-Stevens Act, 16 U.S.C. 1801 et seq. Regulations governing U.S. fisheries and implementing the FMPs appear at 50 CFR parts 600, 679, and 680.

Section 303(a)(11) of the Magnuson-Stevens Act requires that any FMP establish a standardized bycatch reporting methodology (SBRM) to assess the amount and type of bycatch occurring in the fishery, and include conservation and management measures that, to the extent practicable and in the following priority—(A) minimize bycatch, and (B) minimize the mortality of bycatch that cannot be avoided (16 U.S.C. 1853(a)(11)).

On January 19, 2017, NMFS published a final rule (82 FR 6317) establishing national guidance for compliance with this requirement. As required by 50 CFR 600.1610(b), regional fishery management councils, in coordination with NMFS, must review their FMPs and make any necessary changes so all FMPs are consistent with the guidance by February 21, 2022.

The national guidance, codified at 50 CFR 600.1605(a), defines a SBRM as “an established, consistent procedure or procedures used to collect, record, and report bycatch data in a fishery.” This information, in conjunction with other relevant sources, is used to assess the amount and type of bycatch occurring in the fishery and inform the development of conservation and management measures to minimize bycatch. The regulations require that an FMP identify the required procedure that constitutes the SBRM for the fishery and explain how the procedure meets the purpose to collect, record, and report bycatch data.

The SBRM final rule requires the Council to explain how the SBRMs meet the stated purpose in the rule based on an analysis of four considerations: (1) Characteristics of bycatch in the fishery, (2) the feasibility of the reporting methodology, (3) the uncertainty of data resulting from the methodology, and (4) how the data will be used to assess the amount and type of bycatch occurring in the fishery (50 CFR 600.1610(a)). The Council must address these considerations when reviewing or establishing an SBRM.

In February 2020, the Council received a report on current FMPs managed by the Council and their consistency with the SBRM final rule. At that meeting, the Council determined that the FMPs for Groundfish of the Bering Sea and Aleutian Islands Management Area, Groundfish of the Gulf of Alaska, and Fish Resources of the Arctic Management Area were in compliance with the SBRM final rule. The Council also determined that the Crab, Scallop, and Salmon FMPs needed to be updated to explicitly identify the SBRMs to be consistent with the SBRM final rule and should therefore be amended.

The Council took final action at its February 2021 meeting. In taking final action, the Council noted that changes to the Crab, Scallop, and Salmon FMPs were necessary to ensure those FMPs are consistent with the Magnuson-Stevens Act and the SBRM final rule. During deliberation, the Council recognized that the Crab, Scallop, and Salmon FMPs currently contain management measures such as the State's Scallop and Crab Observer Programs, industry reports, and fish tickets that provide SBRMs consistent with the national guidance. However, these are not explicitly identified as the SBRM in each FMP.

The Council recommended the three FMPs be amended to explicitly state the SBRMs and explain how they meet the purpose of collecting, recording, and reporting bycatch data. The Council also noted that the descriptions of the management measures that contribute to the SBRM (such as the Crab Observer Program) may be a bit outdated. These management measures may be updated as the FMPs are amended by this action, and any such updates will be consistent with the SBRM regulations and be done in coordination with the State. Updates to the language of management measures for SBRM consistency would not add any new reporting requirements.

This proposed action would not add any new reporting requirements and would not change any regulatory requirements. This action would only add to or modify language in the Crab, Scallop, and Salmon FMPs to more transparently reflect and align with how bycatch is currently reported in the fisheries managed by the Council by explicitly stating the SBRM in each fishery.

Crab FMP

The combination of the Crab Observer Program and industry reports provides a standard reporting methodology that is consistent with the SBRM final rule. Descriptions of these management measures currently exist in the Crab FMP; however, the FMP needs to be amended to explicitly identify these methodologies as the SBRM. Amendment 51 to the Crab FMP would add language to Sections 8.1.2, 8.3.1, and 8.3.7 to identify the existing SBRM and to explain how it meets the purpose of collecting, recording, and reporting bycatch.

Scallop FMP

The combination of industry reports and the Scallop Observer Program provides a standard reporting methodology that is consistent with the SBRM final rule. Descriptions of these management measures currently exist in the Scallop FMP; however, the FMP needs to be amended to explicitly identify these methodologies as the SBRM. Amendment 17 to the Scallop FMP would add language to Section 3.2.12 to identify the SBRM and explain how it meets the purpose of collecting, recording, and reporting bycatch.

Salmon FMP

Fish tickets are the standardized reporting methodology in place for reporting catch of salmon species that are subject to maximum retainable amounts. The Statewide Harvest Survey and creel surveys, as well as the Saltwater Guide Logbooks, are the standardized reporting methodology in place for reporting in the salmon sport fishery and the guided sport fishery. However, the Salmon FMP needs to be amended in order to explicitly identify these methodologies as the SBRM. Amendment 15 to the Salmon FMP would add language to Section 8.1.8 (Bycatch Management) to identify the SBRM and explain how it meets the purpose of collecting, recording, and reporting bycatch in the directed commercial salmon fishery. In addition, Amendment 15 would add language to Section 8.1.9 (Sport Fisheries) to identify the SBRM for the salmon sport fishery.

NMFS is soliciting public comments on the proposed Amendments through the end of the comment period (see DATES). All relevant written comments received by the end of the applicable comment period will be considered by NMFS in the approval/partial approval/disapproval decision for the Amendments and addressed in the response to comments in the final decision. Comments received after the end of the applicable comment period will not be considered in the approval/disapproval decision on the Amendments. To be considered, comments must be received, not just postmarked or otherwise transmitted, by the last day of the comment period (see DATES).

Authority: 16 U.S.C. 1801 et seq.

Dated: June 8, 2021.
Jennifer M. Wallace,
Acting Director, Office of Sustainable Fisheries, National Marine Fisheries Service.

[FR Doc. 2021-12373 Filed 6-11-21; 8:45 am]

BILLING CODE 3510-22-P